DEPARTMENT OF TRANSPORTATION

Federal Aviation Administration

14 CFR Part 71

[Docket No. FAA-2011-0023; Airspace Docket No. 11-ANM-2]

Amendment of Class D and Class E Airspace; Idaho Falls, ID

AGENCY: Federal Aviation Administration (FAA), DOT.

ACTION: Final rule.

SUMMARY: This action amends existing Class D and Class E airspace at Idaho Falls, ID, by changing the name of the airport to Idaho Falls Regional Airport, and adjusting the geographic coordinates of the airport. This action also adds additional Class E airspace necessary to accommodate aircraft using new Area Navigation (RNAV) Required Navigation Performance (RNP) standard instrument approach procedures at Idaho Falls Regional Airport. This improves the safety and management of Instrument Flight Rules (IFR) operations at the airport.

DATES: Effective date, 0901 UTC, August 25, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On February 17, 2011, the FAA published in the Federal Register a notice of proposed rulemaking to amend controlled airspace at Idaho Falls, ID (76 FR 9266). Interested parties were invited to participate in this rulemaking effort by submitting written comments on the proposal to the FAA. No comments were received.

Class D and Class E airspace designations are published in paragraph 5000, 6002, 6004 and 6005, respectively, of FAA Order 7400.9U dated August 18, 2010, and effective September 15, 2010, which is incorporated by reference in 14 CFR 71.1. The Class D and Class E airspace designations listed in this document will be published subsequently in that Order. With the exception of editorial changes, this rule is the same as that proposed in the NPRM.

The Rule

This action amends Title 14 Code of Federal Regulations (14 CFR) Part 71 by amending Class D and Class E airspace by changing the airport name from Fanning Field to Idaho Falls Regional Airport, and adjusts the geographic coordinates of the airport to be in concert with the FAA's Aeronautical Products Office. Also, existing Class E airspace extending upward from 700 feet above the surface, at Idaho Falls Regional Airport is modified to accommodate aircraft using new RNAV (RNP) standard instrument approach procedures. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Idaho Falls Regional Airport, Idaho Falls, ID.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 5000 Class D airspace.

* * * * *

ANM ID D Idaho Falls, ID [Amended]

Idaho Falls Regional Airport, ID

(Lat. 43°30′52″ N., long. 112°04′13″ W.)

That airspace extending upward from the surface to and including 7,200 feet MSL within a 5.4-mile radius of Idaho Falls Regional Airport excluding that airspace below 5,300 feet MSL within a 1-mile radius of lat. 43°28′16″ N., long. 111°59′27″ W.; and excluding that airspace 1 mile either side of the 127° bearing from lat. 43°28′16″ N., long. 111°59′27″ W., to the 5.4-mile radius of Idaho Falls Regional Airport. This Class D airspace area is effective during the specific dates and times established in advance by a Notice to Airmen. The effective date and time will thereafter be continuously published in the Airport/Facility Directory.

Paragraph 6002 Class E airspace designated as surface areas.

* * * * *

ANM ID E2 Idaho Falls, ID [Amended]

Idaho Falls Regional Airport, ID

(Lat. 43°30′52″ N., long. 112°04′13″ W.)

Within a 5.4-mile radius of Idaho Falls Regional Airport. This Class E airspace area is effective during the specific dates and times established in advance by a Notice to Airmen. The effective date and time will thereafter be continuously published in the Airport/Facility Directory.

Paragraph 6004 Class E airspace designated as an Extension to a Class D surface area.

* * * * *

ANM ID E4 Idaho Falls, ID [Amended]

Idaho Falls Regional Airport, ID

(Lat. 43°30′52″ N., long. 112°04′13″ W.)

Idaho Falls VOR/DME

(Lat. 43°31′08″ N., long. 112°03′50″ W.)

That airspace extending upward from the surface within 3.1 miles each side of the Idaho Falls VOR/DME 223° radial extending from the 5.4-mile radius of Idaho Falls Regional Airport to 9.2 miles southwest of the VOR/DME, and within 3.5 miles each side of the Idaho Falls VOR/DME 030° radial extending from the 5.4-mile radius of the airport to 7 miles northeast of the VOR/DME.

Paragraph 6005 Class E airspace areas extending upward from 700 feet or more above the surface of the earth.

* * * * *

ANM ID E5 Idaho Falls, ID [Modified]

Idaho Falls Regional Airport, ID

(Lat. 43°30′52″ N., long. 112°04′13″ W.)

Pocatello VORTAC

(Lat. 42°52′13″ N., long. 112°39′08″ W.)

Burley VOR/DME

(Lat. 42°34′49″ N., long. 113°51′57″ W.)

Idaho Falls VOR/DME

(Lat. 43°31′08″ N., long. 112°03′50″ W.)

That airspace extending upward from 700 feet above the surface within a 7.5-mile radius of Idaho Falls Regional Airport, and within 10.2 miles northwest and 4.3 miles southeast of the Idaho Falls VOR/DME 036° and 216° radials extending from 27.2 miles northeast to 16.1 miles southwest of the VOR/DME, and within 7.9 miles southeast and 5.3 miles northwest of the 029° radial of the Pocatello VORTAC extending from 20.1 to 40.9 miles northeast of the VORTAC; that airspace extending from 1,200 feet above the surface bounded by a line beginning at the intersection of long. 112°30′03″ W., and the south edge of V-298, extending east along V-298 to the intersection of the south edge of V-298 and long. 112°02′00″ W., north along long. 112°02′00″ W. to lat. 44°20′00″ N., east along lat. 44°20′00″ N. to long. 110°37′00″ W., south along long. 110°37′00″ W. to the intersection of long. 110°37′00″ W. and the northwest edge of V-465, southwest on V-465 to the intersection of V-465 and long. 112°00′00″ W., south along long. 112°00′00″ W., to the north edge of V-4, west on V-4 to the 24.4 mile radius of the Burley VOR/DME, thence counterclockwise via the 24.4-mile radius to the south edge of V-269, thence east along the south edge of V-269 to the 25.3-mile radius of the Pocatello VORTAC, thence clockwise via the 25.3-mile radius to lat. 43°05′46″ N., long. 113°08′15″ W.; to lat. 43°20′30″ N., long. 112°45′33″ W.; to lat. 43°32′00″ N., long. 112°35′03″ W.; to lat. 43°50′20″ N., long. 112°30′03″ W., thence to the point of beginning.

Issued in Seattle, Washington, on May 2, 2011.
Christine Mellon,
Acting Manager, Operations Support Group, Western Service Center.

[FR Doc. 2011-11371 Filed 5-16-11; 8:45 am]

BILLING CODE 4910-13-P